DEPARTMENT OF STATE

22 CFR Parts 40 and 42

[Public Notice 3377]

Documentation of Immigrants and Nonimmigrants Under the Immigration and Nationality Act, as Amended—Change in Procedures for Payment of Immigrant Visa Fees

AGENCY: Department of State.

ACTION: Interim Rule.

SUMMARY: This rule adopts a proposed rule published October 28, 1999 [64 FR 58004] to the extent of clarifying that the new requirement that immigrant visa applicants must pay the application processing fee prior to the time of formal application for a visa will be phased-in to ensure that unanticipated problems are resolved prior to world-wide applicability.

DATES: Effective September 8, 2000. Comments must be received by November 7, 2000.

ADDRESSES: Comments may be sent to Chief, Legislation and Regulations Division, Visa Services, Department of State, Washington, DC 20520-0106, e-mail, odomhe@state.gov or FAX: (202) 663-3898.

FOR FURTHER INFORMATION CONTACT: H. Edward Odom, Chief, Legislation and Regulations Division, Visa Services, Department of State, Washington, D.C. 20520-0106, (202) 663-1204.

SUPPLEMENTARY INFORMATION: The Department received no comments relating to the original proposed rule and assumes, therefore, that the rationale for the change was accepted by all parties. Most new programs, of every variety, have experienced problems at the initial stage, however. The Department believes it prudent, under those circumstances, to apply this new rule initially only with respect to applicants at certain posts which are already participating in a special program at the National Visa Center. Applicants at all other posts will continue to pay fees in accordance with current procedures until such time as the Department is satisfied the system is effective and those other posts are phased into this program.

The ten posts selected for the special program together represent about 40% of all immigrant visa applicants. The program is thus both large enough in terms of volume and small enough in terms of applicability as to be a feasible test. Additional posts will be phased in based on the size of their overall operations beginning with the next largest. It is anticipated that all posts will be included in this new procedure within the next two, possibly three, years.

The 10 posts at which advanced payment of the application processing fee must be paid are: Manila, Ciudad Juarez, Santo Domingo, Guangzhou, Bogota, Port au Prince, Georgetown, Freetown, Tirana, and Montreal. As noted above, at all other posts that fee will continue to be paid immediately prior to formal application for a visa until each such post is designated by the Deputy Assistant Secretary for the new procedure.

No further changes are being made in the rule proposed on October 26, 1999.

List of Subjects in 22 CFR Parts 40 and 42

Aliens, Immigration, Passports and visas.

Accordingly, the Department of State amends 22 CFR Chapter I as set forth below.

PART 40—[AMENDED]

1. The authority citation for Part 40 is amended to read:

Authority: 8 U.S.C. 1104.

2. Amend § 40.1 by redesignating paragraphs (l), (m), (n), (o), (p), (q), (r), and (s) as paragraphs (m), (n), (o), (p), (q), (r), (s), and (t), respectively, and adding a new paragraph (l) to read:

§ 40.1 Definitions.

* * * * *

(l) Make or file an application for a visa means:

(1) For a nonimmigrant visa applicant, submitting for formal adjudication by a consular officer of a completed Form OF-156, with any required supporting documents and the requisite processing fee or evidence of the prior payment of the processing fee when such documents are received and accepted for adjudication by the consular officer.

(2) For an immigrant visa applicant, personally appearing before a consular officer and verifying by oath or affirmation the statements contained on the Form OF-230 and in all supporting documents, having previously submitted all forms and documents required in advance of the appearance and paid the visa application processing fee.

* * * * *

PART 42—[AMENDED]

3. The authority citation for Part 42 continues to read:

Authority: 8 U.S.C. 1104.

4. Revise § 42.71(b) to read as follows:

§ 42.71 Authority to issue visas; visa fees.

* * * * *

(b) Immigrant visa fees. The Secretary of State prescribes separate fees for the processing of immigrant visa applications and for the issuance of immigrant visas thereafter to persons whose applications are approved. An individual registered for immigrant visa processing at a post designated for this purpose by the Deputy Assistant Secretary for Visa Services must pay the processing fee upon being notified that a visa is expected to become available in the near future and being requested to obtain the supporting documentation needed to apply formally for a visa, in accordance with instructions received with such notification. The fee must be paid before an applicant at a post so designated will receive an appointment to appear and make application before a consular officer. Applicants at a post not yet so designated will continue to pay the fee immediately prior to formal application for a visa. All applicants must pay the issuance fee after the consular officer has completed the visa interview and approved issuance of the visa, but prior to its issuance. A fee collected for the processing of an immigrant visa application is refundable only if the principal officer of a post or the officer in charge of a consular section determines that the notification of prospective visa availability was sufficiently erroneous to preclude the applicant from benefiting from the processing. A fee collected for the issuance of an immigrant visa is refundable only if either of such officers determines that the visa was issued in error or could not be used as a result of U.S. Government actions over which the alien had no control and for which the alien was not responsible in whole or in part.

Dated: August 14, 2000.
Mary A. Ryan,
Assistant Secretary for Consular Affairs.

[FR Doc. 00-23115 Filed 9-7-00; 8:45 am]

BILLING CODE 4710-06-P